AFRICAN DEVELOPMENT FOUNDATION

Meeting; Sunshine Act; Board of Directors Meeting

Time: Tuesday, January 31, 2006, 10 a.m.-4 p.m.

Place: The African Development Foundation, Conference Room, 1400 I Street, NW., Washington, DC 20005.

Dates: Tuesday, January 31, 2006.

Status: Open Session—January 31, 2006, 10 a.m.-10:30 a.m.

Closed Executive Session—January 31, 2006, 10:30 a.m.-12 p.m.

Open Session—January 31, 2006, 12 p.m.-4 p.m.

Agenda

Tuesday, January 31, 2006

10 a.m. Chairman's Report.

10:15 a.m. President-elect Remarks.

10:30 a.m. Executive Session.

12 p.m. Lunch.

1 p.m. Board Member Comments.

1:30 p.m. Swearing-In Ceremony.

2 p.m. President's Report.

4 p.m. Adjournment.

Due to security requirements and limited seating, all individuals wishing to attend the open sessions of the meeting must notify Doris Martin, General Counsel, at (202) 673-3916 or mrivard@adf.gov of your request to attend by noon on Friday, January 27, 2006.

If you have any questions or comments, please direct them to Doris Martin, General Counsel, who may be reached at (202) 673-3916.

Nathaniel Fields,
President.

[FR Doc. 06-869 Filed 1-25-06; 4:28 pm]

BILLING CODE 6117-01-P